NATIONAL CREDIT UNION ADMINISTRATION

Sunshine Act Meeting Notice

Matter To Be Deleted From the Agenda of a Previously Announced Agency Meeting

FEDERAL REGISTER CITATION OF PREVIOUS ANNOUNCEMENT: September 18, 2012 (77 FR 57596).

TIME AND DATE: 8:30 a.m., Thursday, September 20, 2012.

PLACE: Board Room, 7th Floor, Room 7047, 1775 Duke Street, Alexandria, VA 22314-3428.

STATUS: Closed.

MATTER TO BE DELETED: 1. Personnel (1). Closed pursuant to exemptions (2) and (6).

FOR FURTHER INFORMATION CONTACT: Mary Rupp, Secretary of the Board, Telephone: 703-518-6304.

Mary Rupp,
Board Secretary.

[FR Doc. 2012-23473 Filed 9-19-12; 4:15 pm]

BILLING CODE 7535-01-P